DEPARTMENT OF TRANSPORTATION

Federal Highway Administration

Tier 2 Environmental Impact Statement: Daviess and Greene Counties, IN

AGENCY: Federal Highway Administration (FHWA), DOT.

ACTION: Notice of intent.

SUMMARY: The FHWA is issuing this notice to advise the public that a Tier 2 environmental impact statement (EIS) will be prepared for the proposed Section 3, located in Daviess and Greene Counties, Indiana, of the Evansville-to-Indianapolis Interstate 69 (I-69) highway.

FOR FURTHER INFORMATION CONTACT: Anthony M. DeSimone, Environmental Engineer, Federal Highway Administration, Indiana Division, 575 N. Pennsylvania Avenue, Room 254, Indianapolis, Indiana 46204, Telephone (317) 226-5307 or Lyle Sadler, Project Manager, Indiana Department of Transportation, Room N855, 100 N. Senate Avenue, Indianapolis, Indiana 46204, Telephone (317) 233-6972.

SUPPLEMENTARY INFORMATION: The FHWA, in cooperation with the Indiana Department of Transportation (INDOT), will prepare a Tier 2 EIS on a proposal to build Section 3 of the Evansville-to-Indianapolis I-69 highway. Section 3 is located in Daviess and Greene Counties, Indiana. The proposed action would involve the construction of an interstate highway from U.S. Route 50 east of Washington and proceeding northerly towards Newberry and then turns easterly to U.S. Route 231 near the unincorporated community of Scotland and the Crane Naval Weapons Support Center for a length of approximately 25.3 miles.

I-69 (formerly known as Corridor 18) is a strategic, high priority highway serving the east-central United States. I-69 is planned to be a continuous north-south corridor linking Canada, the United States and Mexico. FHWA has identified 32 separate sections of independent utility (SIUs) for the national I-69 corridor. The Evansville-to-Indianapolis section of I-69 has been designated by FHWA as SIU #3.

The FHWA approved the Record of Decision (ROD) on the Tier 1 Final EIS for the I-69 SIU #3 on March 24, 2004. The purpose of the Tier 1 study was to resolve: (1) Whether or not to complete I-69 in Southwestern Indiana; and if so, (2) the selection of a corridor for I-69 between Evansville and Indianapolis.

FHWA and INDOT have consulted extensively with environmental resource agencies about the level of detail needed in the Tier 1 process in order to provide a basis for informed decision-making at this stage. The consultation began in early 1999, before a decision had been made to proceed with a tiered study and continued throughout the entire Tier 1 process.

Extensive public involvement was included in the development of the Tier 1 EIS at many stages including Purpose and Need, alternatives development and screening and final selection. Twelve build alternatives and the No Build Alternative were considered under detailed analysis. Of these, Alternative 3C was selected as the single Preferred Alternative in the Tier 1 Final EIS.

The Tier 1 ROD for the I-69 SIU #3 included the selection of a variable width corridor, generally 2000 feet wide, in which to build an Interstate highway that connects the following points in Indiana: Evansville, Oakland City, Washington, Crane Naval Surface Warfare Center, Bloomington, Martinsville and Indianapolis. The approved corridor is approximately 142 miles long. The Tier 1 ROD approved termini for six Tier 2 Sections within the approved corridor, and stated that a separate EIS would be prepared for each Tier 2 section. Each Tier 2 EIS will be used to select the specific alignment of the proposed action and to determine mitigation measures within that section.

The overall purpose of I-69 SIU #3, as defined in the Tier 1 EIS, is to: Strengthen the transportation network in Southwest Indiana; Support Economic Development in Southwest Indiana; and Complete the portion of the National I-69 project between Evansville and Indianapolis. Each Tier 2 section will contribute to achieving the overall goals of I-69 SIU #3, and also will serve localized objectives, which were discussed in the Tier 1 Final EIS and will be further defined in each Tier 2 EIS.

The range of alternatives appropriate for each Tier 2 EIS will be determined for that section in consultation with resource agencies. Consideration of the No Build alternative will be included as a baseline for analysis, in accordance with applicable regulations. Alternatives generally will be located within the corridor approved in the Tier 1 ROD. However, pursuant to the Tier 1 ROD, alternatives outside the selected corridor may be considered when necessary to avoid significant impacts within the corridor while still connecting the Tier 2 termini designated in the Tier 1 ROD. Interchange location and design, access to abutting properties, and location of grade separations with intersecting roads will be determined in the Tier 2 EISs.

Scoping will be initiated individually for each Tier 2 section but will be coordinated to address similar issues simultaneously when possible. The appropriate federal and state resource agencies will be included in this ongoing process. The public will also have opportunities to comment during the scoping process and other stages throughout the development of the proposed project. A date for a scoping meeting for regulatory agencies to address all six Tier 2 sections will be established at a later date. A public scoping meeting for this Tier 2 section will also be scheduled at a later date.

To ensure that the full range of issues related to this proposed action is addressed and any significant impacts are identified, comments and suggestions are invited from all interested parties. Comments or questions concerning this proposed action and this Tier 2 EIS should be directed to the FHWA or the INDOT at the address provided above.

(Catalog of Federal Domestic Assistance Program Number 20.205, Highway Planning and Construction. The regulations implementing Executive Order 12732 regarding intergovernmental consultation on Federal programs and activities apply to this program.)

Authority: 23 U.S.C. 315; 49 CFR 1.48.

Issued on: April 22, 2004.
Anthony M. DeSimone,
Environmental Engineer, Federal Highway Administration, Indianapolis, Indiana.

[FR Doc. 04-9768 Filed 4-28-04; 8:45 am]

BILLING CODE 4910-22-M